DEPARTMENT OF TRANSPORTATION

Maritime Administration

[Docket No. MARAD-2024-0103]

Request for Comments on the Renewal of a Previously Approved Information Collection: Approval of Underwriters for Marine Hull Insurance; Correction

AGENCY: Maritime Administration, DOT.

ACTION: Notice, correction.

SUMMARY: On August 2, 2024, the Maritime Administration (MARAD) published a document in the Federal Register inviting public comments on our intention to request the Office of Management and Budget (OMB) approval to renew an information collection in accordance with the Paperwork Reduction Act of 1995 (PRA). However, the publication contained an incorrect docket number. This notice reflects the corrected docket number “MARAD-2024-0103” and restates the notice requesting comment. Accordingly, MARAD invites public comments on our intention to request OMB approval to renew an information collection in accordance with the PRA. The proposed collection OMB 2133-0517 (Approval of Underwriters for Marine Hull Insurance) will be used to provide approval of foreign underwriters based on an assessment of their financial condition, the regulatory regime under which they operate, and a statement attesting to a lack of discrimination in their country against U.S. hull insurers. The regulations also require that American underwriters be given an opportunity to compete for every placement, thereby necessitating in some cases certification that such opportunity was offered. We are required to publish this notice in the Federal Register to obtain comments from the public and affected agencies.

DATES: Comments must be submitted on or before October 7, 2024.

ADDRESSES: You may submit comments identified by Docket No. MARAD-2024-0103 through one of the following methods:

• Federal eRulemaking Portal: www.regulations.gov. Search using the above DOT docket number and follow the online instructions for submitting comments.

• Mail or Hand Delivery: Docket Management Facility, U.S. Department of Transportation, 1200 New Jersey Avenue SE, West Building, Room W12-140, Washington, DC 20590, between 9 a.m. and 5 p.m., Monday through Friday, except on Federal holidays.

Instructions: All submissions must include the agency name and docket number for this rulemaking.

Note: All comments received will be posted without change to www.regulations.gov including any personal information provided.

Comments are invited on: (a) whether the proposed collection of information is necessary for the Department's performance; (b) the accuracy of the estimated burden; (c) ways for the Department to enhance the quality, utility, and clarity of the information collection; and (d) ways that the burden could be minimized without reducing the quality of the collected information. The agency will summarize and/or include your comments in the request for OMB's clearance of this information collection.

FOR FURTHER INFORMATION CONTACT: Cameryn L. Miller, 202-366-0907, Office of Marine Insurance, Maritime Administration, U.S. Department of Transportation, 1200 New Jersey Ave. SE, Washington, DC 20590, Email: cameryn.miller@dot.gov.

SUPPLEMENTARY INFORMATION:

Title: Approval of Underwriters for Marine Hull Insurance.

OMB Control Number: 2133-0517.

Type of Request: Extension Without Change of a Currently Approved Collection.

Abstract: This collection of information involves the approval of marine hull underwriters to insure MARAD program vessels. Applicants will be required to submit financial data upon which MARAD approval would be based. This information is needed in order that MARAD officials can evaluate the underwriters and determine their suitability for providing marine hull insurance on MARAD vessels.

Respondents: Marine Insurance Underwriters and Brokers.

Affected Public: Businesses or other for profit.

Estimated Number of Respondents: 66.

Estimated Number of Responses: 66.

Estimated Hours per Response: .5-1 hour.

Annual Estimated Total Annual Burden Hours: 49.

Frequency of Response: Once Annually.

(Authority: The Paperwork Reduction Act of 1995; 44 U.S.C. chapter 35, as amended; and 49 CFR 1.49.)

By Order of the Maritime Administrator.
T. Mitchell Hudson, Jr.,
Secretary, Maritime Administration.

[FR Doc. 2024-17499 Filed 8-7-24; 8:45 am]

BILLING CODE 4910-81-P